DEPARTMENT OF COMMERCE

International Trade Administration

[A-570-908]

Sodium Hexametaphosphate From the People's Republic of China: Continuation of Antidumping Duty Order

AGENCY: Import Administration, International Trade Administration, Department of Commerce.

SUMMARY: As a result of the determinations by the Department of Commerce (the “Department”) and the International Trade Commission (the “ITC”) that revocation of the antidumping duty order on sodium hexametaphosphate (“sodium hex”) from the People's Republic of China (“PRC”) would likely lead to a continuation or recurrence of dumping and material injury to an industry in the United States, the Department is publishing a notice of continuation of the antidumping duty order.

DATES: Effective Date: July 17, 2013.

FOR FURTHER INFORMATION CONTACT: Paul Walker, AD/CVD Operations, Office 9, Import Administration, International Trade Administration, U.S. Department of Commerce, 14th Street and Constitution Avenue NW., Washington, DC 20230; telephone: 202.482.0413.

SUPPLEMENTARY INFORMATION:

Background

On February 1, 2013, the Department initiated a sunset review of the antidumping duty order on sodium hex from the PRC, pursuant to section 751(c) of the Tariff Act of 1930, as amended (the “Act”).¹ As a result of its review, the Department determined that revocation of the antidumping duty order on sodium hex from the PRC would likely lead to a continuation or recurrence of dumping and, therefore, notified the ITC of the magnitude of the margins likely to prevail should the order be revoked.² On July 5, 2013, the ITC published its determination, pursuant to section 751(c) of the Act, that revocation of the antidumping duty order on sodium hex from the PRC would likely lead to a continuation or recurrence of material injury to an industry in the United States within a reasonably foreseeable time.³

Scope of the Order

¹ See Initiation of Five-Year (“Sunset”) Review, 78 FR 7400 (February 1, 2013).

² See Sodium Hexametaphosphate from the People's Republic of China: Final Results of Expedited First Sunset Review of the Antidumping Duty Order, 78 FR 34989 (June 11, 2013).

³ See Sodium Hexametaphosphate from China: Determination, 78 FR 40505 (July 5, 2013); see also Sodium Hexametaphosphate from China: Investigation No. 731-TA-1110, USITC Publication 4410 (June 2013).

The merchandise subject to the order is sodium hexametaphosphate. Sodium hexametaphosphate is a water-soluble polyphosphate glass that consists of a distribution of polyphosphate chain lengths. It is a collection of sodium polyphosphate polymers built on repeating NaPO3 units. Sodium hexametaphosphate has a P2O5 content from 60 to 71 percent. Alternate names for sodium hexametaphosphate include the following: Calgon; Calgon S; Glassy Sodium Phosphate; Sodium Polyphosphate, Glassy; Metaphosphoric Acid; Sodium Salt; Sodium Acid Metaphosphate; Graham's Salt; Sodium Hex; Polyphosphoric Acid, Sodium Salt; Glass H; Hexaphos; Sodaphos; Vitrafos; and BAC-N-FOS. Sodium hexametaphosphate is typically sold as a white powder or granule (crushed) and may also be sold in the form of sheets (glass) or as a liquid solution. It is imported under heading 2835.39.5000, Harmonized Tariff Schedule of the United States (“HTSUS”). It may also be imported as a blend or mixture under heading 3824.90.3900, HTSUS. The American Chemical Society, Chemical Abstract Service (“CAS”) has assigned the name “Polyphosphoric Acid, Sodium Salt” to sodium hexametaphosphate. The CAS registry number is 68915-31-1. However, sodium hexametaphosphate is commonly identified by CAS No. 10124-56-8 in the market. For purposes of the order, the narrative description is dispositive, not the tariff heading, CAS registry number or CAS name.

The product covered by the order includes sodium hexametaphosphate in all grades, whether food grade or technical grade. The product covered by the order includes sodium hexametaphosphate without regard to chain length, i.e., whether regular or long chain. The product covered by the order includes sodium hexametaphosphate without regard to physical form, whether glass, sheet, crushed, granule, powder, fines, or other form, and whether or not in solution.

However, the product covered by the order does not include sodium hexametaphosphate when imported in a blend with other materials in which the sodium hexametaphosphate accounts for less than 50 percent by volume of the finished product.

Continuation of the Order

As a result of the determinations by the Department and the ITC that revocation of the antidumping duty order would likely lead to a continuation or recurrence of dumping and material injury to an industry in the United States, pursuant to section 751(d)(2) of the Act, the Department hereby orders the continuation of the antidumping order on sodium hex from the PRC. U.S. Customs and Border Protection will continue to collect antidumping duty cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year (“sunset”) review and this notice are in accordance with section 751(c) of the Act and published pursuant to section 777(i)(1) of the Act.

Dated: July 11, 2013.
Paul Piquado,
Assistant Secretary for Import Administration.

[FR Doc. 2013-17158 Filed 7-16-13; 8:45 am]

BILLING CODE 3510-DS-P